DEPARTMENT OF DEFENSE

Office of the Secretary

Meeting of the Defense Department Advisory Committee on Women in the Services (DACOWITS)

AGENCY: Department of Defense (DoD).

ACTION: Notice.

SUMMARY: Pursuant to section 10(a), Public Law 92-463, as amended, notice is hereby given of a forthcoming meeting of the Defense Department Advisory Committee on Women in the Services (DACOWITS). The purpose of the meeting is for the Committee to vote on the findings and recommendations of the 2009 report. The meeting is open to the public, subject to the availability of space.

DATES: The meeting will be held on March 23, 2010, from 9 a.m. to 4:30 p.m.

ADDRESSES: The meeting will be held at the Hilton Garden Inn Savannah Airport, 20 Clyde E. Martin Dr., Savannah, Georgia 31408.

FOR FURTHER INFORMATION CONTACT: MSgt Robert Bowling, USAF, DACOWITS, 4000 Defense Pentagon, Room 2C548A, Washington, DC 20301-4000. Robert.bowling@osd.mil. Telephone (703) 697-2122. Fax (703) 614-6233.

SUPPLEMENTARY INFORMATION: Due to scheduling conflicts and the need to release the data from the DACOWITS 2009 findings and recommendations in a timely manner, the Government was unable to process the Federal Register notice for the March 23, 2010 meeting of the Defense Advisory Committee on Women in the Services, as required by 41 CFR 102-3.150(a). Accordingly, the Committee Management Officer for the Department of Defense, pursuant to 41 CFR 102-3.150(b), waives the 15-calendar day notification requirement.

Meeting Agenda

Tuesday, March 23, 2010, 9 a.m. to 4:30 p.m.

—Welcome, introductions, and announcements.

—Vote on Findings and Recommendations.

—Public Forum.

Written Statements

Interested persons may submit a written statement for consideration by the Defense Department Advisory Committee on Women in the Services. Individuals submitting a written statement must submit their statement to the Point of Contact (see FOR FURTHER INFORMATION CONTACT) NLT 5 p.m., Friday, March 19, 2010. If a written statement is not received by Friday, March 19, 2010, prior to the meeting, which is the subject of this notice, then it may not be provided to or considered by the Defense Department Advisory Committee on Women in the Services until its next open meeting. The Designated Federal Officer will review all timely submissions with the Defense Department Advisory Committee on Women in the Services Chairperson and ensure they are provided to the members of the Defense Department Advisory Committee on Women in the Services.

Oral Statements

If members of the public are interested in making an oral statement, a written statement must be submitted as specified under the preceding section, “Written Statements.” After reviewing the written comments, the Chairperson and the Designated Federal Officer will determine who of the requesting persons will be able to make an oral presentation of their issue during an open portion of this meeting or at a future meeting. Determination of who will be making an oral presentation will depend on time available and if the topics are relevant to the Committee's activities. Two minutes will be allotted to persons desiring to make an oral presentation. Oral presentations by members of the public will be permitted only on Tuesday, March 23, 2010 from 12 p.m. to 12:30 p.m. before the full Committee. Number of oral presentations to be made will depend on the number of requests received from members of the public.

Dated: March 8, 2010.
Mitchell S. Bryman,
Alternate OSD Federal Register Liaison Officer, Department of Defense.

[FR Doc. 2010-5460 Filed 3-11-10; 8:45 am]

BILLING CODE 5001-06-P